DEPARTMENT OF HEALTH AND HUMAN SERVICES

National Institutes of Health

National Cancer Institute Amended; Notice of Meeting

Notice is hereby given of a change in the meeting of the National Cancer Institute Board of Scientific Advisors, scheduled to be held on March 6, 2014, from 9:00 a.m. to 5:00 p.m., National Institutes of Health, Building 31, 31 Center Drive, 6th Floor, Conference Room 10, Bethesda, MD, 20892 which was published in the Federal Register on February 05, 2014, 79FR6913.

This notice is amended to change the meeting time and format to a virtual meeting to be held on March 6, 2014, from 12:00 p.m. to 2:00 p.m. The meeting is open to the public. Members of the public may attend the meeting at the conference room listed above.

Dated: February 18, 2014.
Melanie J. Gray,
Program Analyst, Office of Federal Advisory Committee Policy.

[FR Doc. 2014-03771 Filed 2-21-14; 8:45 am]

BILLING CODE 4140-01-P